DEPARTMENT OF HEALTH AND HUMAN SERVICES

Health Resources and Services Administration

Advisory Committee on Training in Primary Care Medicine and Dentistry; Notice of Meeting

In accordance with section 10(a)(2) of the Federal Advisory Committee Act (Pub. L. 92-463), notice is hereby given of the following meeting:

Name: Advisory Committee on Training in Primary Care Medicine and Dentistry (ACTPCMD).

Date and Time:

November 12, 2009, 8:30 a.m.-4:30 p.m.

November 13, 2009, 8 a.m.-2 p.m.

Place: Hilton Washington DC/Rockville, Executive Meeting Center, 1750 Rockville Pike, Rockville, Maryland 20910.

Status: The meeting will be open to the public.

Purpose: The Advisory Committee provides advice and recommendations on a broad range of issues dealing with programs and activities authorized under section 747 of the Public Health Service Act as amended by The Health Professions Education Partnership Act of 1998, Public Law 105-392. At this meeting, the Advisory Committee will finalize its eighth report about the re-design of primary health care and begin work on its ninth report about the primary care pipeline. Reports are submitted to Congress and to the Secretary of the Department of Health and Human Services.

Agenda: The meeting on Thursday, November 12 will begin with opening remarks from the Chair of the Advisory Committee and welcoming comments from senior management of the Health Resources and Services Administration. Following several presentations on the primary care workforce, the Advisory Committee will finalize its eighth report about the redesign of the delivery of primary health care with implications for the training of health care practitioners. The Advisory Committee will then begin work on its ninth report about revitalizing primary care by priming the primary care pipeline. In both plenary sessions and in small groups, the Advisory Committee will focus on report recommendations and an outline for the report. On the first day of the meeting, annual elections will be held for Chair and two Vice Chairs. On Friday, November 13, the Advisory Committee will continue to work on its ninth report, determine next steps in the report preparation process, and plan for the next Advisory Committee meeting. An opportunity will be provided for public comment.

For Further Information Contact: Anyone interested in obtaining a roster of members or other relevant information should write or contact Jerilyn K. Glass, M.D., PhD., Advisory Committee Executive Secretary, Division of Medicine and Dentistry, Bureau of Health Professions, Health Resources and Services Administration, Room 9A-27, Parklawn Building, 5600 Fishers Lane, Rockville, Maryland 20857, Telephone (301) 443-6190. The Web address for information on the Advisory Committee and the November 12-13, 2009 meeting agenda is http://bhpr.hrsa.gov/medicine-dentistry/actpcmd.

Dated: October 2, 2009.
Alexandra Huttinger,
Director, Division of Policy Review and Coordination.

[FR Doc. E9-24393 Filed 10-8-09; 8:45 am]

BILLING CODE 4165-15-P